PEACE CORPS

Information Collection Requests Under OMB Review

AGENCY: Peace Corps.

ACTION: 60-Day notice and request for comments.

SUMMARY: The Peace Corps will be submitting the following information collection request to the Office of Management and Budget (OMB) for approval of an existing collection in use without an OMB Control Number. In compliance with the Paperwork Reduction Act of 1995 (44 U.S.C. Chapter 35), the Peace Corps invites the general public to comment on this request for approval of an existing collection in use without an OMB Control Number, Peace Corps Response Applicant Personal and Professional Reference forms.

DATES: Submit comments on or before July 15, 2011.

ADDRESSES: Comments should be addressed to Denora Miller, Freedom of Information Act Officer. Denora Miller can be contacted by telephone at 202-692-1236 or e-mail at pcfr@peacecorps.gov. E-mail comments must be made in text and not in attachments.

FOR FURTHER INFORMATION CONTACT: Denora Miller at Peace Corps address above.

SUPPLEMENTARY INFORMATION: This information collection is used by Peace Corps Response staff to learn from someone, who knows a volunteer applicant and his or her background, whether the applicant possesses the necessary characteristics and skills to serve as a Peace Corps Response Volunteer.

OMB Control Number: 0420-pending.

Title: Reference Form for Peace Corps Response Candidates (Professional). Reference Form for Peace Corps Response Candidates (Personal).

Type of Review: Existing collection in use without an OMB Control Number.

Affected Public: Returned Peace Corps Volunteer and general public.

Respondents' Obligation to Reply: Voluntary.

Burden to the Public:

a. Estimated number of applicants: 2,500.

b. Estimated number of applicants who submit references: 500.

c. Estimated number of references required per applicant: 2.

d. Estimated number of reference forms received: 1,000.

e. Frequency of response: One time.

f. Estimated average time to respond: 10 minutes.

g. Annual burden hours: 167 hours.

h. Estimated annual cost to respondents: $0.00.

General Description of Collection: The information collected on the reference forms for Peace Corps Response applicants is part of the screening and selection process. The information collected from an applicant's references helps the recruitment and placement specialists determine whether a particular applicant possesses the skills and characteristics to serve as a Peace Corps Response Volunteer.

Request for Comment: Peace Corps invites comments on whether the proposed collection of information is necessary for proper performance of the functions of the Peace Corps Response, including whether the information will have practical use; the accuracy of the agency's estimate of the burden of the proposed collection of information, including the validity of the information to be collected; and, ways to minimize the burden of the collection of information on those who are to respond, including through the use of automated collection techniques, when appropriate, and other forms of information technology.

This notice issued in Washington, DC, on May 10, 2011.
Earl W. Yates,
Associate Director, Management.

[FR Doc. 2011-11875 Filed 5-13-11; 8:45 am]

BILLING CODE 6051-01-P